DEPARTMENT OF HOUSING AND URBAN DEVELOPMENT

[Docket No. 5500-FA-05]

Announcement of Funding Awards; Capital Fund Education and Training Community Facilities (CFCF) Program; Fiscal Year 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the Fiscal Year 2011 (FY 2011) Notice of Funding Availability (NOFA) for the Capital Fund Education and Training Community Facilities (CFCF) Program. This announcement contains the consolidated names and addresses of this year's award recipients under the CFCF program.

FOR FURTHER INFORMATION CONTACT: For questions concerning the CFCF Program awards, contact Jeffrey Riddel, Director, Office of Capital Improvements, Office of Public Housing, Department of Housing and Urban Development, 451 7th Street, SW., Room 4130, Washington, DC 20410, telephone 202-402-7378. Hearing or speech-impaired individuals may access this number via TTY by calling the toll-free Federal Relay Service at 800-877-8339.

SUPPLEMENTARY INFORMATION: The CFCF program provides grants to Public Housing Agencies (PHAs) to develop facilities to provide early childhood education, adult education, and/or job training programs for public housing residents. More specifically, in accordance with Section 9 of the United States Housing Act of 1937 (42 U.S.C. 1437g) (1937 Act), and the Department of Defense and Full-Year Continuing Appropriations Act, 2011 (Pub. L. 112-10, approved April 15, 2011), the CFCF program provides grants to PHAs to (1) Construct new community facilities; (2) purchase or acquire facilities; or (3) rehabilitate existing facilities to be used as education and training community facilities by PHA residents. The facilities are for the predominant use of PHA residents; however, non-public housing residents may participate.

The FY 2011 awards announced in this Notice were selected for funding in a competition posted on HUD's Web site on May 24, 2011. Applications were scored and selected for funding based on the selection criteria in that NOFA.

The amount appropriated in FY 2011 to fund the CFCF program was $15,000,000.

In accordance with Section 102(a)(4)(C) of the Department of Housing and Urban Development Reform Act of 1989 (103 Stat. 1987, 42 U.S.C. 3545), the Department is publishing the names, addresses, and amounts of the 5 awards made under the competition in Appendix A to this document.

Dated: October 14, 2011.
Sandra B. Henriquez,
Assistant Secretary for Public and Indian Housing.

Appendix A

Capital Fund Education and Training Community Facilities (CFCF) Program Award From FY 2011 Notice of Funding Availability
Name/address of applicant | Amount funded | Activity funded | Project description
Newark Housing Authority, 500 Broad Street, Newark, NJ 07102-3112 | $5,000,000 | Construction of a New Facility | Development of a facility at which the PHA will provide adult education, early childhood education, and job training.
White Plains Housing Authority, 223 Dr. Martin Luther King, Jr. Boulevard, White Plains, NY 10601-4105 | 3,500,000 | Construction of a New Facility | Development of a facility at which the PHA will provide adult education and job training.
Brewer Housing Authority, 15 Colonial Circle, Brewer, ME 04412 | 2,491,690 | Construction of a New Facility | Development of a facility at which the PHA will provide adult education and job training.
Housing Authority of the City of Tacoma, 902 South L Street, Tacoma, WA 98405-4037 | 1,881,652 | Construction of a New Facility | Development of a facility at which the PHA will provide adult education, early childhood education, and job training.
Northwest Georgia Housing Authority, 800 North Fifth Avenue, PO Box 1428, Rome, GA 30162-1428 | 1,662,643 | Construction of a New Facility | Development of a facility at which the PHA will provide adult education, early childhood education, and job training.

[FR Doc. 2011-27444 Filed 10-21-11; 8:45 am]

BILLING CODE 4210-67-P